DEPARTMENT OF HEALTH AND HUMAN SERVICES

Statement of Organization, Functions, and Delegations of Authority

AGENCY: Office of Population Affairs, Office of the Assistant Secretary for Health, Office of the Secretary, Department of Health and Human Services (HHS).

ACTION: Notice.

SUMMARY: The Office of the Assistant Secretary for Health, Office of Population Affairs (OPA) has modified its organizational structure.

DATES: This new organizational structure was approved by the Secretary of Health and Human Services and takes effect on May 14, 2024.

FOR FURTHER INFORMATION CONTACT: Jessica Swafford Marcella, Deputy Assistant Secretary for Population Affairs, Office of Population Affairs, Office of the Assistant Secretary for Health, Department of Health and Human Services at Jessica.marcella@hhs.gov and 240-453-2800.

SUPPLEMENTARY INFORMATION: Part A (Office of the Secretary, U.S. Department of Health and Human Services) of the Statement of Organization, Functions, and Delegations of Authority of the Department of Health and Human Services (60 FR 56605, dated November 9, 1995, and corrected at 75 FR 53304, August 31, 2010, amended at 82 FR 3005, dated January 10, 2017, and amended, most recently at 84 FR 14951, dated April 12, 2019) is amended to reflect the reorganization of the Office of Population Affairs (OPA), Office of the Assistant Secretary for Health (OASH). This reorganization will streamline operations and improve the efficiency and effectiveness of OPA. OPA is responsible for implementing and administering the Title X family planning program, managing the Office of Adolescent Health, which is headed by a director, and implementing and administering the Teen Pregnancy Prevention program and other adolescent health activities. The changes are as follows:

I. Under Part C, section C-G, Organization, revise to organize OPA staff across six Divisions: Administration and Operations, Adolescent Health Programs, Clinical and Scientific Affairs, Policy and External Affairs, Research and Evaluation, and Title X Service Delivery. The Division of Administration and Operations will manage overall operations for OPA, including staff recruitment and retention, budgeting, training, and travel. The Division of Adolescent Health Programs will lead implementation of the Teen Pregnancy Prevention Program and other adolescent health programmatic activities. The Division of Clinical and Scientific Affairs will provide clinical and scientific expertise, consultation, and oversight for all OPA staff and activities. The Division of Policy and External Affairs will lead all policy and communication activities for the office. The Division of Research and Evaluation will oversee data collection for OPA programs and will lead OPA's research and evaluation activities. The Division of Title X Service Delivery will lead implementation of the Title X service delivery program.

II. Delegations of Authority: All delegations and redelegations of authority made to officials and employees of affected organizational components will continue in them or their successors pending further redelegations, if allowed, provided they are consistent with this reorganization.

(Authority: 44 U.S.C. 3101)

Xavier Becerra,
Secretary, U.S. Department of Health and Human Services.

[FR Doc. 2024-11058 Filed 5-20-24; 8:45 am]

BILLING CODE P